DEPARTMENT OF LABOR

Employment and Training Administration

[TA-W-65,032]

Prior Coated Metals, Inc., Allentown, PA; Notice of Termination of Investigation

Pursuant to Section 221 of the Trade Act of 1974, as amended, an investigation was initiated on January 29, 2009, in response to a petition filed by United Steel Workers Local 2599 on behalf of workers at Prior Coated Metals, Inc., Allentown, Pennsylvania.

The petitioner has requested that the petition be withdrawn. Consequently, the investigation has been terminated.

Signed at Washington, DC, this 2nd day of April 2009.
Elliott S. Kushner,
Certifying Officer, Division of Trade Adjustment Assistance.

[FR Doc. E9-10367 Filed 5-6-09; 8:45 am]

BILLING CODE 4510-FN-P